FEDERAL COMMUNICATIONS COMMISSION

47 CFR Part 12

[PS Docket No. 14-174; Report No. 3034]

Petition for Reconsideration of Action in a Rulemaking Proceeding

AGENCY: Federal Communications Commission.

ACTION: Petition for reconsideration.

SUMMARY: In this document, a Petition for Reconsideration (Petition) has been filed in the Commission's Rulemaking Proceeding by David C. Bergmann, on behalf of the National Association of State Utility Consumer Advocates.

DATES: Oppositions to the Petition must be filed on or before December 31, 2015. Replies to an opposition must be filed on or before January 11, 2016.

ADDRESSES: Federal Communications Commission, 445 12th Street SW., Washington DC 20554.

FOR FURTHER INFORMATION CONTACT: Linda Pintro, Public Safety and Homeland Security Bureau, 202-418-7490, linda.pintro@fcc.gov.

SUPPLEMENTARY INFORMATION: This is a summary of Commission's document, Report No. 3034, released December 2, 2015. The full text of Report No. 3034 is available for viewing and copying at the FCC Reference Information Center, 445 12th Street SW., Room CY-A257 Washington, DC 20554, or may be accessed online via the Commission's Electronic Comment Filing System at http://apps.fcc.gov/ecfs/. The Commission will not send a copy of the document pursuant to the Congressional Review Act, 5 U.S.C. 801(a)(1)(A), because this document does not have an impact on any rules of particular applicability.

Subject: Ensuring Continuity of 911 Communications Report and Order, published at 80 FR 62470, October 16, 2015, in PS Docket No. 14-174. This document is published pursuant to 47 CFR 1.429(e). See also 47 CFR 1.4(b)(1).

Number of Petitions Filed: 1

Federal Communications Commission.
Gloria J. Miles,
Federal Register Liaison Officer, Office of the Secretary.

[FR Doc. 2015-31574 Filed 12-15-15; 8:45 am]

BILLING CODE 6712-01-P